DEPARTMENT OF ENERGY

Federal Energy Regulatory Commission

[Docket No. RP01-4-002]

Midcoast Interstate Transmission, Inc.; Notice of Compliance Filing

December 13, 2000.

Take notice that on December 6, 2000, Midcoast Interstate Transmission, Inc. (MIT) filed under protest the following revised tariff sheets to comply with the Commission's November 21, 2000, Letter Order herein relative MIT's earlier, Order No. 587-L, compliance filing. As mandated by the Commission's Letter Order and Order No. 587-L, the revised tariff sheets are to be effective as of November 1, 2000.

Sub Third Revised Sheet No. 85

Original Sheet No. 85A

Original Sheet No. 85B, and

Original Sheet No. 85C.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32271 Filed 12-18-00; 8:45 am]

BILLING CODE 6717-01-M